DEPARTMENT OF HOUSING AND URBAN DEVELOPMENT

[Docket No. FR-4818-N-03]

Notice of Proposed Information Collection for Public Comment on A Survey of Users of Products From the Office of Policy Development and Research

AGENCY: Office of the Assistant Secretary for Public Development and Research, HUD.

ACTION: Notice.

SUMMARY: The proposed information collection requirement described below will be submitted to the Office of Management and Budget (OMB) for review, as required by the Paperwork Reduction Act. The Department is soliciting public comments on the subject proposal.

DATES: Comments Due Date: June 9, 2003.

ADDRESSES: Interested persons are invited to submit comments regarding this proposal. Comments should refer to the proposal by name and/or OMB Control Number and should be sent to: Reports Liaison Officer, Office of Policy Development and Research, Department of Housing and Urban Development, 451 7th Street, SW., Room 8226, Washington, DC 20410-6000.

FOR FURTHER INFORMATION CONTACT: Barbara Haley, 202-708-5537, ext. 5708 (this is not a toll-free number), for copies of the proposed forms and other available documents.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected and (4) Minimize the burden of the collection of information on those who are to respond; including through the use of appropriate automated collection techniques or other forms of information technology, e.g., permitting electronic submission of responses. This Notice also lists the following information:

Title of Proposal: Survey of Users of Products from the Office of Policy Development and Research (PD&R).

Description of the need for the information and proposed use: Each year PD&R produces and facilitates the dissemination of approximately 60 publications through its distribution clearinghouse HUD USER. In 1978 PD&R established HUD USER as an information source for housing and community development researchers and policymakers. In the last calendar year, over 4,000,000 housing research publications were downloaded from the HUD USER Web site and on average 70,000 unique visitors stop by the site each month. Over the past few years, over 80,000 individuals have placed orders for HUD USER research products.

In order to evaluate the impact of its current programs and to measure its dissemination efforts, PD&R will study the opinions of stakeholders and people who request PD&R products regarding the extent to which PD&R research makes a difference and contributes to the development of best practices.

Agency Form Numbers: None.

Members of the Affected Public: Users of products from the Office of Policy Development and Research.

Estimation of the total number of house needed to prepare the information collection including number of respondents, frequency of response, and hours of response: Information will be collected by a one-time telephone survey of 75 individuals who are users of products from the Office of Policy Development and Research. The survey will take approximately 30 minutes to complete. This means a total of 37.5 hours of response time annually for the information collection.

Status of the Proposed Information Collection: Pending OMB approval.

Authority: Section 3506 of the Paperwork Reduction Act of 1995, 44 U.S.C. Chapter 35, as amended.

Dated: April 03, 2003.
Christopher D. Lord,
Deputy Assistant Secretary for Policy Development.

[FR Doc. 03-8693 Filed 4-9-03; 8:45 am]

BILLING CODE 4210-67-M